DEPARTMENT OF HEALTH AND HUMAN SERVICES

Centers for Disease Control and Prevention

[Request for Application 05033]

Cooperative Agreement With the Joint United Nations Programme on HIV/AIDS (UNAIDS) Through the World Health Organization (WHO) as Bona Fide Agent; Notice of Intent To Fund Single Eligibility Award

A. Purpose

The purpose of the program is to support the field-centered technical collaborations between the U.S. Government and the United Nations in support of national HIV/AIDS programs and strategies in priority countries. In particular, CDC Global AIDS Program and the Joint United Nations Programme on HIV/AIDS (UNAIDS) will serve as primary collaborators on behalf of their organizational counterparts and, through this program, facilitate the technical cooperation between the U.S. Government and the United Nations.

The Catalog of Federal Domestic Assistance number for this program is 93.067.

B. Eligible Applicant

Applications may only be submitted by the Joint United Nations Programme on HIV/AIDS (UNAIDS), through a Bona Fide agent, if necessary.

A Bona Fide Agent is an agency/organization identified by the applicant as eligible to submit an application under the UNAIDS eligibility in lieu of an application submitted directly by UNAIDS. This is done specifically in recognition that WHO is the bona fide agent for HIV/AIDS as it relates to the receipt of external funds for program implementation. In applying as a bona fide agent of UNAIDS, WHO must provide a letter from UNAIDS as documentation of its status. Place this documentation behind the first page of your application form.

C. Funding

Approximately $2,000,000 is available in FY 2005 to fund this award. It is expected that the award will begin on or before August 31, 2005, and will be made for a 12-month budget period within a project period of up to four years. Funding estimates may change.

D. Where To Obtain Additional Information

For general comments or questions about this announcement, contact: Technical Information Management, CDC Procurement and Grants Office, 2920 Brandywine Road, Atlanta, GA 30341-4146. Telephone: 770-488-2700.

For technical questions about this program, contact: Dr. Jacob A. Gayle, Project Officer, CDC Global AIDS Program/Geneva, Switzerland, 20 Avenue Appia: WCC 448, 1211 Geneva 27 Switzerland. Telephone: +41-22. 791.4430. E-mail: jgayle@cdc.gov.

For financial, grants management, or budget assistance, contact: Vivian Walker, Contract Specialist, CDC Procurement and Grants Office, U.S. Department of Health and Human Services, 2920 Brandywine Road, Atlanta, GA 30341. Telephone:770-488-2724. E-mail: vwalker@cdc.gov.

Dated: August 3, 2005.
Alan A. Kotch,
Acting Director, Procurement and Grants Office, Centers for Disease Control and Prevention.

[FR Doc. 05-15699 Filed 8-8-05; 8:45 am]

BILLING CODE 4163-18-P